DEPARTMENT OF VETERANS AFFAIRS

[OMB Control No. 2900-0572]

Agency Information Collection Activity Under OMB Review: Application for Benefits for Certain Children With Disabilities Born of Vietnam and Certain Korea Service Veterans

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before July 5, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0572” in any correspondence.

FOR FURTHER INFORMATION CONTACT: Danny S. Green, Enterprise Records Service (005R1B), Department of Veterans Affairs, 811 Vermont Avenue NW, Washington, DC 20420, (202) 421-1354 or email danny.green2@va.gov. Please refer to “OMB Control No. 2900-0572” in any correspondence.

SUPPLEMENTARY INFORMATION: Authority: 44 U.S.C. 3501-21.

Title: Application for Benefits for Certain Children with Disabilities Born of Vietnam and Certain Korea Service Veterans, VA Form 21-0304.

OMB Control Number: 2900-0572.

Type of Review: Extension of a currently approved collection.

Abstract: VA Form 21-0304 is used to determine the monetary allowance for a child born with Spina Bifida or certain birth defects who is the natural child of a Vietnam and certain Korea service veterans. Without this information, VA would be unable to effectively administer 38 U.S.C. 1805 or 38 U.S.C. 1815. VA Form 21-0304 has been updated to include; a new standardized format with sectional formatting and additional signature sections for witnesses, alternate, and power of attorney signers. This is a non-substantive change and does not increase the burden estimate.

An agency may not conduct or sponsor, and a person is not required to respond to a collection of information unless it displays a currently valid OMB control number. The Federal Register Notice with a 60-day comment period soliciting comments on this collection of information was published at 84 FR 50 on March 14, 2019, pages 9413 and 9414.

Affected Public: Individuals or Households.

Estimated Annual Burden: 72 hours.

Estimated Average Burden per Respondent: 10 minutes.

Frequency of Response: One time.

Estimated Number of Respondents: 430.

By direction of the Secretary.
Danny S. Green,
Interim Department Clearance Officer, Office of Quality, Performance and Risk, Department of Veterans Affairs.

[FR Doc. 2019-11583 Filed 6-3-19; 8:45 am]

BILLING CODE 8320-01-P